DEPARTMENT OF AGRICULTURE

Animal and Plant Health Inspection Service

9 CFR Part 161

[Docket No. APHIS-2006-0093]

RIN 0579-AC04

National Veterinary Accreditation Program; Currently Accredited Veterinarians Performing Accredited Duties and Electing to Participate

AGENCY: Animal and Plant Health Inspection Service, USDA.

ACTION: Final rule; extension of period for election to participate.

SUMMARY: We are announcing to the public that veterinarians who are currently accredited in the National Veterinary Accreditation Program (NVAP) may continue to perform accredited duties and to elect to continue to participate in the NVAP until further notice. The regulations indicate that currently accredited veterinarians must elect to continue their participation in the NVAP in order to maintain their accredited status, after which we will confirm their continued participation and notify them of their first renewal date. Various logistical obstacles have prevented us from processing in a timely manner the elections to participate that we have received. Allowing currently accredited veterinarians to continue to perform accredited duties and to elect to participate will ensure that we obtain an accurate and complete record of accredited veterinarian participation while continuing to allow veterinarians to provide accredited services to the public.

EFFECTIVE DATE: September 28, 2010.

FOR FURTHER INFORMATION CONTACT: Dr. Todd Behre, National Veterinary Accreditation Program, VS, APHIS, 4700 River Road Unit 200, Riverdale, MD 20737; (301) 851-3401.

SUPPLEMENTARY INFORMATION: The regulations in 9 CFR chapter I, subchapter J (parts 160 through 162, referred to below as the regulations), govern the accreditation of veterinarians and the suspension and revocation of such accreditation. These regulations are the foundation for the National Veterinary Accreditation Program (NVAP). Accredited veterinarians are approved by the Administrator of the Animal and Plant Health Inspection Service (APHIS), U.S. Department of Agriculture, to perform certain regulatory tasks to control and prevent the spread of animal diseases throughout the United States and internationally.

On December 9, 2009 (74 FR 64998-65013, Docket No. APHIS-2006-0093), we published a final rule in the Federal Register that amended the regulations to establish two accreditation categories in place of the former single category, to add requirements for supplemental training and renewal of accreditation, and to offer program certifications. The final rule was effective February 1, 2010, a date intended to give us time to prepare to implement the new regulations, which affect about 71,000 veterinarians who are currently accredited.

Section 161.3 of the final rule contained the requirements for supplemental training and renewal of accreditation. Because accredited veterinarians have not previously been required to renew their accreditation or complete supplemental training, we established in paragraph (d) of § 161.3 a process allowing currently accredited veterinarians to determine whether they wished to continue to participate in the NVAP.

Paragraph (d) of § 161.3 states that veterinarians who are accredited as of February 1, 2010, may continue to perform accredited duties between February 1, 2010, and the date of their first renewal. In accordance with paragraph (d), APHIS provided notice for 3 months to accredited veterinarians who were accredited as of February 1, 2010, to notify them that they must elect to participate in the NVAP as a Category I or Category II veterinarian. Paragraph (d) requires veterinarians to elect to continue to participate within 3 months of the end of the notification period, or their accredited status will expire.

Paragraph (d) of § 161.3 goes on to state that when APHIS receives notice from an accredited veterinarian that he or she elects to participate, APHIS will notify the accredited veterinarian of his or her date for first renewal. The accredited veterinarian must then complete all the training requirements for renewal, as described in § 161.3, by his or her first renewal date. The notification of the first renewal date was thus intended to be the means by which APHIS notifies an accredited veterinarian that we have received notice that he or she has elected to participate and can thus continue performing accredited duties.

To date, approximately 50,000 veterinarians have elected to continue to participate, and another 10,000 are expected to do so. Processing these elections to continue to participate involves many steps to verify, clarify, and proofread the information provided. At times, we have needed to contact State boards, area offices of the Veterinary Services program, and the accredited veterinarians themselves. As much as possible, we want to clear up any omissions or potential errors so that we have correct information for all accredited veterinarians in our database. Accredited veterinarians provide valuable regulatory services to their communities, allowing agricultural commerce to continue and ensuring that travelers can meet regulatory requirements for pets. It is important that those services continue to be provided.

As a result, we have not yet been able to review all of the forms submitted by accredited veterinarians to elect to continue to participate, ensure that the forms accurately reflect the veterinarians’ intent and situation, and provide notice to the veterinarians of their first renewal date. This process is expected to take several more months, during which we will continue to need veterinarians to perform accredited duties.

In addition, we stated in the Background section of the final rule that we will notify veterinarians who routinely perform accredited veterinarian duties and have not yet elected to continue participating as accredited veterinarians, to ensure that such veterinarians do not inadvertently let their accreditation lapse. We have discovered that we need additional time to reach out to such veterinarians to ensure that they are aware of the new requirements. We have also found that some veterinarians who received notification did not understand what the notification meant, and we plan to work to clarify the new requirements for currently accredited veterinarians in the coming months.

Therefore, this document announces that currently accredited veterinarians may continue to perform accredited duties until further notice, even if they have not received a date for their first accreditation renewal from APHIS. We will also allow currently accredited veterinarians to continue to elect to participate in the NVAP.

We currently expect to be able to process all the elections to participate we have received by March 2011. When we are closer to reaching this goal, we will publish another document in the Federal Register that will amend § 161.3(d) to indicate the date by which veterinarians must elect to continue to participate in the NVAP.

Done in Washington, DC, this 17th day of September 2010.

Kevin Shea,
Acting Administrator, Animal and Plant Health Inspection Service.

[FR Doc. 2010-24294 Filed 9-27-10; 8:45 am]

BILLING CODE 3410-34-S